DEPARTMENT OF LABOR

Employment and Training Administration

[TA-W-60,433]

Moll Industries, Fort Smith Division, Fort Smith, AR; Notice of Termination of Investigation

Pursuant to Section 221 of the Trade Act of 1974, as amended, an investigation was initiated on November 15, 2006 in response to a petition filed by a Company Official and on behalf of workers at Moll Industries, Fort Smith Division, Fort Smith, Arkansas.

The petitioner has requested that the petition be withdrawn. Consequently, the investigation has been terminated.

Signed at Washington, DC, this 27th day of November, 2006.
Elliott S. Kushner,
Certifying Officer, Division of Trade Adjustment Assistance.

[FR Doc. E6-20838 Filed 12-7-06; 8:45 am]

BILLING CODE 4510-30-P